DEPARTMENT OF THE INTERIOR

Minerals Management Service

Agency Information Collection Activities: Submitted for Office of Management and Budget (OMB) Review; Comment Request

AGENCY: Minerals Management Service (MMS), Interior.

ACTION: Notice of extension of a currently approved information collection (OMB Control Number 1010-0068).

SUMMARY: To comply with the Paperwork Reduction Act of 1995 (PRA), we are notifying the public that we have submitted to OMB an information collection request (ICR) to renew approval of the paperwork requirements in the regulations under 30 CFR part 250, subpart M, Unitization, and related documents. This notice also provides the public a second opportunity to comment on the paperwork burden of these regulatory requirements.

DATES: Submit written comments by August 12, 2002.

ADDRESSES: You may submit comments directly to the Office of Information and Regulatory Affairs, OMB, Attention: Desk Officer for the Department of the Interior (1010-0068), 725 17th Street, NW., Washington, DC 20503. Mail or hand-carry a copy of your comments to the Department of the Interior; Minerals Management Service; Attention: Rules Processing Team; Mail Stop 4024; 381 Elden Street; Herndon, Virginia 20170-4817. If you wish to e-mail comments to MMS, the e-mail address is: rules.comments@MMS.gov. Reference Information Collection 1010-0068 in your e-mail subject line. Include your name and return address in your e-mail message and mark your message for return receipt.

FOR FURTHER INFORMATION CONTACT: Alexis London, Rules Processing Team, at (703) 787-1600. You may also contact Alexis London to obtain a copy at no cost of the regulations and model unitization agreements that require the subject collection of information.

SUPPLEMENTARY INFORMATION: Title: 30 CFR 250, Subpart M, Unitization.

OMB Control Number: 1010-0068.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect and develop oil and natural gas resources in a manner which is consistent with the need to make such resources available to meet the Nation's energy needs as rapidly as possible; to balance orderly energy resource development with protection of human, marine, and coastal environments; to ensure the public a fair and equitable return on the resources of the OCS; and to preserve and maintain free enterprise competition. Section 1334(a) of the OCS Lands Act specifies that the Secretary prescribe rules and regulations “to provide for the prevention of waste and conservation of the natural resources of the (O)uter Continental Shelf, and the protection of correlative rights therein” and include provisions “for unitization, pooling, and drilling agreements.” To carry out these responsibilities, the Secretary has authorized MMS to issue orders and regulations governing offshore oil and gas lease operations.

This notice concerns the paperwork requirements of 30 CFR part 250, subpart M, Unitization, and related documents. Responses are mandatory or are required to obtain or retain a benefit. No questions of a “sensitive” nature are asked. MMS will protect proprietary information according to 30 CFR 250.196 (Data and information to be made available to the public), 30 CFR part 252 (OCS Oil and Gas Information Program), and the Freedom of Information Act (5 U.S.C. 552) and its implementing regulations (43 CFR part 2). MMS OCS Regions use the information to determine whether to approve a proposal to enter into an agreement to unitize operations under two or more leases or to approve modifications when circumstances change. The information is necessary to ensure that operations will result in preventing waste, conserving natural resources, and protecting correlative rights, including the Government's interests. We also use information submitted to determine competitiveness of a reservoir or to decide that compelling unitization will achieve these results.

Please note, 30 CFR 250.1303 states that “MMS will maintain and provide a model unit agreement for you to follow.” Upon a recent review of the two current models, it was noted that they specified submission of “four copies” of operator designations. In accordance with the Paperwork Reduction Act, we have determined that only “two copies” are necessary and have revised the models to reduce the copy requirements. Copies of the model unit agreements are posted at the MMS Web site: http://www.gomr.mms.gov/homepg/pd/unitization.html.

Frequency: The frequency of reporting is on occasion.

Estimated Number and Description of Respondents: Approximately 130 Federal OCS oil and gas or sulphur lessees.

Estimated Reporting and Recordkeeping “Hour” Burden: The estimated annual “hour” burden for this information collection is a total of 5,396 hours. The following chart details the individual components and estimated hour burdens. There are no recordkeeping requirements under 30 CFR part 250, subpart M. In calculating the burdens, we assumed that respondents perform certain requirements in the normal course of their activities. We consider these to be usual and customary and took that into account in estimating the burden.

Burden Breakdown
Citation 30 CFR 250 subpart M | Reporting requirement | Burden per requirement | Average annual responses | Annual burden hours
1301 | General description of requirements | Burden included in following sections. |  | 0
1301(f)(3), (g)(1) | Request suspension of production or operations | Burden covered in 1010-0114 |  | 0
1302(b) | Request preliminary determination on competitive reservoir | 36 hours | 1 request | 36
1302(b) | Submit concurrence or objection on competitiveness with supporting evidence | 36 hours | 1 request | 36
1302(c), (d) | Submit joint plan of operations or separate plan if agreement cannot be reached | 36 hours | 1 plan | 36
1303 | Apply for voluntary unitization, including submitting unit agreement, unit operating agreement, initial plan of operation, and supporting data; request for variance from model agreement | 144 hours | 14 applications/plans | 2,016
1304(b) | Request compulsory unitization, including submitting unit agreement, unit operating agreement, initial plan of operation, and supporting data; serving non-consenting lessees with documents | 144 hours | 1 request | 144
1303; 1304 | *Submit revisions or modifications to unit agreement, unit operating agreement, plan of operation, change of unit operator, etc | 6 hours | 285 revisions/modifications | 1,710
1303; 1304 | *Submit initial, and revisions to, participating area | 48 hours | 24 submissions | 1,152
1304(d) | Request hearing on required unitization | 1 hour | 1 request | 1
1304(e) | Submit statement at hearing on compulsory unitization | 4 hours | 1 statement | 4
1304(e) | Submit three copies of verbatim transcript of hearing | 1 hour | 1 submission | 1
1304(f) | Appeal final order of compulsory under unitization | Burden covered 1010-0121 |  | 0
1300-1304 | General departure and alternative compliance requests not specifically covered elsewhere in subpart M regulations | 2 hours | 130 requests | 260
Total Hour Burden |  |  | 460 | 5,396
* These requirements are specified in each Unit Agreement.

Estimated Reporting and Recordkeeping “Non-Hour Cost” Burden: Section 250.1304(d) provides an opportunity for parties notified of compulsory unitization to request a hearing. Section 250.1304(e) requires the party seeking the compulsory unitization to pay for the court reporter and three copies of the verbatim transcript of the hearing. It should be noted there have been no such hearings in the recent past, and none are expected in the near future. We estimate the paperwork cost burden would be less than $250.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 28, 2002, we published a Federal Register notice (67 FR 14968) announcing that we would submit this ICR to OMB for approval. The notice provided the required 60-day comment period. In addition, 30 CFR 250.199 provides the OMB control numbers for the information collection requirements imposed by the regulations and forms. That regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by August 12, 2002.

Public Comment Policy: Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: June 7, 2002.
E.P. Danenberger,
Chief, Engineering and Operations Division.

[FR Doc. 02-17542 Filed 7-11-02; 8:45 am]

BILLING CODE 4310-MR-W